DEPARTMENT OF LABOR

Employment and Training Administration

[TA-W-62,668]

Conrad Forest Products, Conrad Forest Products, North Bend, OR; Notice of Termination of Investigation

Pursuant to Section 221 of the Trade Act of 1974, as amended, an investigation was initiated on January 11, 2008 in response to a worker petition filed by a company official on behalf of workers at Conrad Forest Products, North Bend, Oregon.

The petitioner has requested that the petition be withdrawn. Consequently, the investigation has been terminated.

Signed at Washington, DC this 29th day of January 2008.
Richard Church,
Certifying Officer, Division of Trade Adjustment Assistance.

[FR Doc. E8-2232 Filed 2-6-08; 8:45 am]

BILLING CODE 4510-FN-P